ENVIRONMENTAL PROTECTION AGENCY

[FRL-7793-2]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1611.05; NESHAP for Chromium Emissions From Hard and Decorative Chromium Electroplating and Chromium Anodizing Tanks; in 40 CFR part 63, subpart N; was approved 06/30/2004; OMB Number 2060-0327; expires 06/30/2007.

EPA ICR No. 1666.06; NESHAP for Ethylene Oxide Emissions from Sterilization Facilities; in 40 CFR part 63, subpart O; was approved 06/30/2004; OMB Number 2060-0283; expires 06/30/2007.

EPA ICR No. 1716.04; NESHAP for Wood Furniture Manufacturing Operations; in 40 CFR part 63, subpart JJ; was approved 06/30/2004; OMB Number 2060-0324; expires 06/30/2007.

EPA ICR No. 1781.03; NESHAP for Pharmaceuticals Production; in 40 CFR part 63, subpart GGG; was approved 06/30/2004; OMB Number 2060-0358; expires 06/30/2007.

EPA ICR No. 1780.03; Voluntary Cover Sheet for TSCA Submissions; was approved 06/29/2004; OMB Control Number 2070-0156; expires 06/30/2007.

EPA ICR No. 1664.05; National Oil and Hazardous Substances Pollution Contingency Plan; in 40 CFR part 300, subpart J; OMB Number 2050-0141; was approved 06/29/2004; expires 06/30/2007.

EPA ICR No. 1949.04; National Environmental Performance Track Program (Outreach Award, Mentoring Program Registration, and Customer Satisfaction Questionnaire); was approved 06/22/2004; OMB Number 2010-0032; expires 08/31/2006.

EPA ICR No. 2079.02; NESHAP for Metal Can Manufacturing Surface Coating; in 40 CFR part 63, subpart KKKK, was approved 06/17/2004; OMB Number 2060-0541; expires 06/30/2007.

EPA ICR No. 1799.03; NESHAP for Mineral Wood Production; in 40 CFR part 63, subpart DDD; was approved 06/17/2004; OMB Number 2060-0362; expires 06/30/2007.

EPA ICR No. 1967.02; NESHAP for Stationary Combustion Turbines; in 40 CFR part 63, subpart YYYY (Final Rule), was approved 06/17/2004; OMB Number 2060-0540; expires 06/30/2007.

EPA ICR No. 1135.08; NSPS for Magnetic Tape Coating Facilities; in 40 CFR part 60; subpart SSS; was approved 06/15/2004; OMB Number 2060-0171; expires 06/30/2007.

EPA ICR No. 1659.05; NESHAP for Gasoline Distribution Facilities (Stage 1); in 40 CFR part 63, subpart R; was approved 06/17/2004; OMB Number 2060-0325; expires 06/30/2007.

Comment Filed

EPA ICR No. 1189.13; Identification Listing and Rulemaking Petitions (Proposed Rule for Organic Dyes and/or Pigments Production Wastes); in 40 CFR 261.3(a)(2)(iv)(A)-(G); OMB Number 2050-0053; on 06/15/2004 OMB filed a comment.

EPA ICR No. 1897.07; Nonroad Diesel Engines (Final Rule for Nonroad Large SI Engines and Marine Diesel Engines); in 40 CFR part 94, and 40 CFR part 1048; OMB Number 2060-0460; on 07/02/2004 OMB filed a comment.

EPA ICR No. 1432.23; Recordkeeping and Periodic Reporting of the Production, Import, Recycling, Destruction, Transshipment and Feedstock Use of Ozone Depleting Substances Process for Exempting Critical Users; in 40 CFR part 82, subpart A; OMB Number 2060-0170; on 07/09/2004 OMB filed a comment.

EPA ICR No. 2106.01; Revisions to the Definition of Solid Waste (Proposed rule) in 40 CFR part 261(g)(1) through (4), 40 CFR 261.2(c)(3); on 06/29/2004 OMB filed a comment.

EPA ICR No. 1718.07; Fuel Quality Regulations (Final Rule for Nonroad, Locomotive, and Marine Diesel Fuel); in 40 CFR part 89, 40 CFR 80.597, 40 CFR 80.594, 40 CFR 80.592, 40 CFR 80.593, 40 CFR 80.590, 40 CFR 80.591, 40 CFR 80.550, 40 CFR 80.555, 40 CFR 80.560, 40 CFR 80.561, 40 CFR 80.607; OMB Number 2060-0308; on 07/16/2004 OMB filed a comment.

Short Term Extensions

EPA ICR No. 1953.02; Information Collection Request for Best Management Practices Alternatives, Effluent, Limitations Guidelines and Standards, Oil and Gas Extraction Point Source Category; in 40 CFR part 435; OMB Number 2040-0230; on 07/16/2004 OMB extended the expiration date to 10/31/2004.

Dated: July 21, 2004.
Oscar Morales,
Director, Collection Strategies Division.

[FR Doc. 04-17308 Filed 7-28-04; 8:45 am]

BILLING CODE 6560-50-P